DEPARTMENT OF COMMERCE

National Oceanic and Atmospheric Administration

Proposed Information Collection; Comment Request; Survey Instrument Assessing Ecosystem-Based Resource Management in the United States Gulf of Mexico

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 29, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Kathleen Ernst (kathleen.ernst@noaa.gov) or Julien Lartigue (julien.lartigue@noaa.gov), NOAA RESTORE Science Program, NOAA/NCEI 1021 Balch Blvd., Suite 1003, Stennis Space Center, MS 39529, 240-429-5966.

SUPPLEMENTARY INFORMATION:

I. Abstract

The NOAA RESTORE Science Program is committed to improving ecosystem-based management practices throughout the Gulf of Mexico by funding project teams that bring together scientists and resource managers to produce findings and products that (1) increase knowledge and understanding of the ecosystem as a whole, and (2) inform ecosystem-based management. To assess progress towards these outcomes, the Science Program established a long-term outcome metric for the program: The management of the Gulf of Mexico ecosystem and its resources is informed by a comprehensive understanding of the dynamic linkages between the components of the ecosystem and there is growing confidence in, and capacity for, taking an ecosystem-based approach to management. A survey instrument has been developed that will assess the state of ecosystem based management practices across the Gulf of Mexico. This survey instrument will be electronically distributed to resource managers from not-for-profit institutions and local, state, tribal, and federal government agencies. Potential participants can print the survey, or receive the survey by mail if they so choose. Currently, no survey instrument assessing the state of ecosystem-based management practices in the Gulf of Mexico has been undertaken at the regional scale. This survey instrument is intended to create a baseline of understanding regarding ecosystem-based management practices and progress in the Gulf of Mexico region of the United States.

II. Method of Collection

Information will primarily be collected electronically using a survey instrument to record responses. The survey instrument will be available as a Google Form, and partial responses will be recorded if a participant submits the survey but does not complete all survey questions. An option to print the survey instrument and mail it to the NOAA RESTORE Science Program Offices is also available at this url: https://docs.google.com/forms/d/e/1FAIpQLScp7IOm8ZAeSCtSGasyqM48xjx7jVQ_xGXttDR6XZuTfrXUGw/viewform. In the event that a potential respondent requests that a survey be mailed to them, NOAA RESTORE Science Program staff will mail the survey to the potential respondent with a stamped return envelope addressed to the NOAA RESTORE Science Program.

III. Data

OMB Control Number: 0648-xxxx.

Form Number(s): None.

Type of Review: Regular submission, new information collection.

Affected Public: Individual natural resource management professionals working for not-for-profit institutions; state, local, or tribal government, or the Federal government.

Estimated Number of Respondents: 100.

Estimated Time per Response: 10 minutes.

Estimated Total Annual Burden Hours: 5.5 hours.

Estimated Total Annual Cost to Public: $1,620.00.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-11117 Filed 5-28-19; 8:45 am]

BILLING CODE 3510-JS-P